MORRIS K. UDALL AND STEWART L. UDALL FOUNDATION

Sunshine Act Meetings

TIME AND DATE: 11:00 a.m. to 4:30 p.m., Wednesday, June 26, 2019; 1:00 p.m. to 4:30 p.m., Thursday, June 27, 2019; and 9:00 a.m. to 12:00 p.m., Friday, June 28, 2019.

PLACE: The offices of the Morris K. Udall and Stewart L. Udall Foundation, 130 South Scott Avenue, Tucson, AZ 85701.

STATUS: Parts of this meeting will be open to the public. The rest of the meeting will be closed to the public.

MATTERS TO BE CONSIDERED: (1) Call to Order and vote to go into Executive Sessions for matters (2), (3), and (4); (2) Discuss internal personnel rules and practices of the Morris K. Udall and Stewart L. Udall Foundation as regards the Executive Director search procedures; (3) Interview the finalist candidates for the position of Executive Director of the Morris K. Udall and Stewart L. Udall Foundation; (4) Discuss and determine the Board's decision for action on the Executive Director selection for the Morris K. Udall and Stewart L. Udall Foundation; and (5) Review and vote on a Consent Agenda for regular business of the Board of Trustees (Minutes of the December 11, 2018, Board of Trustees Meeting; Board Reports submitted for Education Programs, Finance and Management, Udall Center for Studies in Public Policy-Native Nations Institute-Udall Archives, and U.S. Institute for Environmental Conflict Resolution; and Board takes notice of any new and updated personnel policies).

PORTIONS OPEN TO THE PUBLIC: All agenda items except as noted below.

PORTIONS CLOSED TO THE PUBLIC: Executive Sessions to Discuss internal personnel rules and practices of the Morris K. Udall and Stewart L. Udall Foundation as regards the Executive Director search procedures; Interview the finalist candidates for the position of Executive Director of the Morris K. Udall and Stewart L. Udall Foundation; and Discuss and determine the Board's decision for action on the Executive Director selection for the Morris K. Udall and Stewart L. Udall Foundation.

CONTACT PERSON FOR MORE INFORMATION: Marc J. Rosen, Acting Executive Director and General Counsel, 130 South Scott Avenue, Tucson, AZ 85701, (520) 901-8500.

Dated: June 6, 2019.
Elizabeth E. Monroe,
Executive Assistant, Morris K. Udall and Stewart L. Udall Foundation, and Federal Register Liaison Officer,

[FR Doc. 2019-12334 Filed 6-7-19; 11:15 am]

BILLING CODE 6820-FN-P